DEPARTMENT OF LABOR

Mine Safety and Health Administration

Proposed Information Collection Request Submitted for Public Comment and Recommendations; Respirator Program Records

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood and the impact of collection rquriements on respondents can be properly assessed.

Currently, the Mine Safety and Health Administration (MSHA) is soliciting comments concerning the extension of the information collection related to respirator program records, MSHA is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

A copy of the proposed information collection request can be obtained by contacting the employee listed below in the FOR FURTHER INFORMATION CONTACT section of this notice.

DATES: Submit comments on or before December 31, 2001.

ADDRESSES: Send comments to Gordon J. Burke, Jr., Director, Administration and Management, 4015 Wilson Boulevard, Room 615, Arlington, VA 22203-1984. Commenters are encouraged to send their comments on a computer disk, or via e-mail to Burke-Gordon@msha.gov, along with an original printed copy. Mr. Burke can be reached at (703) 235-1383 (voice) or (703) 235-1563 (facsimile).

FOR FURTHER INFORMATION CONTACT: Charlene Barnard, Records Management Division, Administration and Management, U.S. Department of Labor, Mine Safety and Health Administration, Room 725, 4015 Wilson Boulevard, Arlington, VA 22203-1984. Ms. Barnard can be reached at barnard-charlene@msha.gov (Internet E-mail), (703) 235-1470 (voice), or (703) 235-1563 (facsimile).

SUPPLEMENTARY INFORMATION:

I. Background

Section 101(a)(7) of the Mine Act mandates in part that mandatory standards prescribe the use of protective equipment where appropriate to protect miners against hazards. Where protective equipment or respirators are required because of exposure to harmful substances, MSHA must ensure that such equipment offers adequate protection for workers. A written respirator program that addresses such issues as selection, fitting, use, and maintenance of respirators is essential for ensuring that workers are properly and effectively using the equipment. Records of fit-testing are essential for determining that the worker is wearing the proper respirator.

Title 30 CAR sections 56.5005 and 57.5005 require metal and nonmetal mine operators to institute a respirator program governing selection, maintenance, training, fitting, supervision, cleaning and use of respirators. To control those occupational diseases caused by breathing air contaminated with harmful dusts, fumes, mists, gases, or vapors, the primary objective is to prevent atmospheric contamination. MSHA's current policy, as prescribed by regulation, is to require that this be accomplished by feasible engineering measures. When effective controls are not feasible, or while they are being instituted, or during occasional entry into hazardous atmospheres to perform maintenance or investigations, appropriate respirators are to be used in accordance with established procedures protecting the miners.

Sections 56.5005 and 57.5005 incorporate by reference requirements of the American National Standards Institute (ANSI Z88.2-1969). These incorporated requirements mandate that miners who must wear respirators be fit-tested to the respirators that they will use. Certain records also required to be kept in connection with respirators, including records of the date of issuance of the respirator, and fit-test results. The fit-testing records are essential for determining that the worker is wearing the proper respirator.

II. Current Actions

The mine opertor uses the information to properly issue respiratory protection to miners when feasible engineering and/or administrative controls do not reduce the exposure to permissible levels. Fit-testing records are used to ensure that a respirator worn by an individual is in fact the one for which that individual received a tight fit. MSHA uses the information to determine compliance with the standard.

Type of Review: Extension.

Agency: Mine Safety and Health Administration.

Title: Respirator Program Records.

MOB Number: 1219-0048.

Record keeping: None.

Affected Public: Business or other for-profit.

Cite/Reference/Form/etc: 30 CFR 56.5005 and 57.5005.

Total Respondents: 310.

Frequency: On occasion.

Total Responses: 5,530.

Average Time per Response: 4.04 hours.

Estimated Total Burden Hours: 2,235 hours.

Total Burden Cost (capital/startup): None.

Total Burden Cost (operating/maintaining): $156,350.

Comments submitted in response to this notice will be summarized and/or included in the request for Office of Management and Budget Approval of the information collection request; they will also become a matter of public record.

Dated: October 26, 2001.
Gordon J. Burke, Jr.,
Director, Administration and Management and Information Resources.

[FR Doc. 01-27451 Filed 10-31-01; 8:45 am]

BILLING CODE 4510-43-M